DEPARTMENT OF TRANSPORTATION

Federal Aviation Administration

14 CFR Part 73

[Docket No. FAA-2005-20616; Airspace Docket No. 05-ANM-04]

RIN 2120-AA66

Amendment to Restricted Area 2211 Blair Lakes; AK

AGENCY: Federal Aviation Administration (FAA), DOT.

ACTION: Final rule.

SUMMARY: This action raises the ceiling of Restricted Area 2211 (R-2211), Blair Lakes, AK, from the current 18,000 feet above mean sea level (MSL) to Flight Level (FL) 310. The expanded airspace is required to fulfill United States Air Force (USAF) training requirements. The current restricted airspace at Blair Lakes is too small to allow aircrew training in high altitude weapons delivery tactics. Specifically, the training requirements call for practicing the release of weapons from higher altitudes than are currently available within the existing restricted airspace.

DATES: Effective 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On March 28, 2005, the FAA published in the Federal Register a notice of proposed rulemaking to amend R-2211 at Blair Lakes, AK (70 FR 15606). Interested parties were invited to participate in this rulemaking effort by submitting written comments on the proposal to the FAA. No comments objecting to the proposal were received. With the exception of editorial changes, this amendment is the same as that proposed in the notice.

The Rule

This action amends Title 14 Code of Federal Regulations (14 CFR) part 73 to modify R-2211 by raising the ceiling from 18,000 feet MSL to FL 310. The current restricted airspace at Blair Lakes is too small to allow aircrew training in high altitude weapons delivery tactics. The purpose of the expansion of R-2211 is to accommodate high altitude, high angle weapons delivery training to fulfill USAF training requirements.

Section 73.22 of 14 CFR part 73 was published in the FAA Regulatory/Non-Regulatory Special Use Airspace Areas consolidation dated January 27, 2005. The restricted area listed in this document will be published subsequently in the consolidation.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with paragraph 311(i) FAA Order 1050.1, Polices and Procedures for Considering Environmental Impacts. This airspace action is not expected to cause any potentially significant environmental impacts, and no extraordinary circumstances exists that warrant preparation of an environmental assessment.

List of Subjects in 14 CFR Part 73

Airspace, Prohibited areas, Restricted areas.

The Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. § 73.22 is amended as follows:

* * * * *

R-2211 Blair Lakes, AK [Amended]

Boundaries: Beginning at lat. 64°29′58″ N., long. 147°44′09″ W.; to lat. 64°19′58″ N., long. 147°19′09″ W.; to lat. 64°13′28″ N., long. 147°32′8″ W.; to lat. 64°22′28″ N., long. 147°58′09″ W.; to the point of beginning.

Time of designation: 0800 to 1800, local Monday through Friday, other times by NOTAM.

Designated altitude: Surface to FL310.

Controlling agency. FAA, Fairbanks Approach Control.

Using agency: U.S. Air Force, 354th Fighter Wing, Eielson AFB, AK.

* * * * *

Issued in Washington, DC, June 8, 2005.
Edith V. Parish,
Acting Manager, Airspace and Rules.

[FR Doc. 05-11761 Filed 6-14-05; 8:45 am]

BILLING CODE 4910-13-P